DEPARTMENT OF COMMERCE

International Trade Administration

[A-570-067]

Forged Steel Fittings From the People's Republic of China: Final Results of Antidumping Duty Administrative Review and Final Determination of No Shipments; 2018-2019

AGENCY: Enforcement and Compliance, International Trade Administration, Department of Commerce.

SUMMARY: The Department of Commerce (Commerce) determines that Both-Well (Taizhou) Steel Fittings Co., Ltd. (Both-Well), an exporter of forged steel fittings from the People's Republic of China (China), did not sell subject merchandise in the United States at prices below normal value (NV) during the period of review (POR) May 17, 2018, through October 31, 2019. We also find that 15 companies, including Ningbo Zhongan Forging Co., Ltd. (Ningbo Zhongan), are not eligible for a separate rate and, therefore, are part of the China-wide entity. Further, we have found that four companies had no shipments of subject merchandise during the POR.

DATES: Applicable September 28, 2021.

FOR FURTHER INFORMATION CONTACT: Jinny Ahn, AD/CVD Operations, Office VIII, Enforcement and Compliance, International Trade Administration, Department of Commerce, 1401 Constitution Avenue NW, Washington, DC 20230; telephone: (202) 482-0339.

SUPPLEMENTARY INFORMATION:

Background

Commerce published the Preliminary Results ¹ on March 26, 2021. For events subsequent to the Preliminary Results, see the Issues and Decision Memorandum.²

¹ See Forged Steel Fittings from the People's Republic of China: Preliminary Results of Antidumping Duty Administrative Review and Preliminary Determination of No Shipments; 2018-2019, 86 FR 16186 (March 26, 2021) (Preliminary Results), and accompanying Preliminary Decision Memorandum (PDM).

² See Memorandum, “Decision Memorandum for the Final Results of Antidumping Duty Administrative Review and Final Determination of No Shipments: Forged Steel Fittings from the People's Republic of China; 2018-2019,” dated concurrently with, and hereby adopted by, this notice (Issues and Decision Memorandum).

On July 1, 2021, Commerce extended the deadline of the final results of this administrative review by 60 days, until September 22, 2021.³

³ See Memorandum, “Forged Steel Fittings from the People's Republic of China (China): Extension of Deadline for Final Results of First Antidumping Duty Administrative Review,” dated July 1, 2021.

Scope of the Order ⁴

⁴ See Forged Steel Fittings from Italy and the People's Republic of China: Antidumping Duty Orders, 83 FR 60397, dated November 26, 2018 (Order).

The merchandise covered by the Order is forged steel fittings from China. For a complete description of the scope of the Order, see the Issues and Decision Memorandum.

Analysis of Comments Received

In the Issues and Decision Memorandum, we addressed all issues raised in the interested parties' case and rebuttal briefs. In Appendix I to this notice, we provided a list of the issues raised by the parties. The Issues and Decision Memorandum is a public document and is on file electronically via Enforcement and Compliance's Antidumping and Countervailing Duty Centralized Electronic Service System (ACCESS). ACCESS is available to registered users at https://access.trade.gov. In addition, a complete version of the Issues and Decision Memorandum is available to parties at http://enforcement.trade.gov/frn/index.html.

Changes Since the Preliminary Results

Based on our review of the record and comments received from interested parties regarding our Preliminary Results, we made certain revisions to the margin calculations for Both-Well.⁵ However, these revisions did not change the weighted-average dumping margin for Both-Well ⁶ and, consequently, did not change the rate assigned to the non-individually examined, separate rate respondents. See “Dumping Margin for Non-Individually Examined Companies Granted a Separate Rate” below.

⁵ See Memorandum, “Antidumping Duty Administrative Review of Forged Steel Fittings from the People's Republic of China: Final Results Calculation Memorandum for Both-Well,” dated concurrently with this notice.

⁶ Id.

Final Determination of No Shipments

In the Preliminary Results, we preliminarily determined that Dalian Guangming Pipe Fittings Co., Ltd.; Jiangsu Forged Pipe Fittings Co., Ltd.; Lianfa Stainless Steel Pipes & Valves (Qingyun) Co., Ltd.; and Qingdao Bestflow Industrial Co., Ltd. had no shipments of subject merchandise during the POR.⁷ We received no arguments identifying information that contradicts this determination. Therefore, we continue to find that these companies had no shipments of subject merchandise to the United States during the POR and will issue appropriate liquidation instructions that are consistent with our “automatic assessment” clarification for these final results.⁸

⁷ See Preliminary Results, 86 FR at 16187.

⁸ See Non-Market Economy Antidumping Proceedings: Assessment of Antidumping Duties, 76 FR 65694 (October 24, 2011) (Assessment Practice Refinement).

Separate Rate Respondents

In the Preliminary Results, Commerce determined that Both-Well and six other companies demonstrated their eligibility for a separate rate.⁹ We received no comments or arguments since the issuance of the Preliminary Results that provide a basis for reconsideration of these separate rate determinations. Therefore, for these final results, we continue to find that the six companies listed in the table under “Review-Specific Rate Applicable to the Following Non-Selected Companies” in the “Final Results of the Review” section of this notice are eligible for a separate rate.

⁹ See Preliminary Results, 86 FR at 16187.

Dumping Margin for Non-Individually Examined Companies Granted a Separate Rate

In the Preliminary Results,¹⁰ because the only participating mandatory respondent (i.e., Both-Well) eligible for a separate rate received a weighted-average dumping margin of zero percent, we looked for guidance to section 735(c)(5)(B) of the Act, which instructs Commerce to use any “reasonable method” to determine the rate for exporters that are not being individually examined and found to be entitled to a separate rate. Accordingly, in the Preliminary Results, we assigned the calculated weighted-average dumping margin of the sole participating mandatory respondent, Both-Well (i.e., zero percent), as the weighted-average dumping margin for the non-individually examined, separate rate respondents. No parties commented on the methodology for calculating this separate rate. For the final results, as the revisions we made to the margin calculations for Both-Well did not change the weighted-average dumping margin for Both-Well (i.e., zero percent), we continue to find it appropriate to assign the calculated weighted-average dumping margin of the sole participating mandatory respondent, Both-Well (i.e., zero percent), as the weighted-average dumping margin for the non-individually examined, separate rate respondents.

¹⁰ See Preliminary Results PDM at 8.

The China-Wide Entity

In the Preliminary Results, Commerce preliminarily determined that Ningbo Zhongan, a company selected for individual examination, had not established its eligibility for a separate rate.¹¹ Moreover, Commerce preliminarily determined that 14 other companies for which a review was initiated did not establish their eligibility for a separate rate because they failed to provide a separate rate application, a separate rate certification, or a no-shipment certification if they were already eligible for a separate rate.¹² As such, we preliminarily determined that Ningbo Zhongan and these additional 14 companies are part of the China-wide entity.¹³ We received no comments or arguments since the issuance of the Preliminary Results that provide a basis for reconsideration of these determinations. Therefore, for these final results, we continue to find that the fifteen companies identified at Appendix II to this notice are a part of the China-wide entity.

¹¹ Id. at 4-5.

¹² See Appendix II of this notice which identifies these 14 companies along with Ningbo Zhongan.

¹³ See Preliminary Results PDM at 4-5.

Commerce's policy regarding conditional review of the China-wide entity applies to this administrative review.¹⁴ Under this policy, the China-wide entity will not be under review unless a party specifically requests, or Commerce self-initiates, a review of the China-wide entity.¹⁵ Because no party requested a review of the China-wide entity in this review, the China-wide entity is not under review and the China-wide entity's rate (i.e., 142.72 percent) is not subject to change as a result of this review.¹⁶

¹⁴ See Antidumping Proceedings: Announcement of Change in Department Practice for Respondent Selection in Antidumping Proceedings and Conditional Review of the Nonmarket Economy Entity in NME Antidumping Duty Proceedings, 78 FR 65963 (November 4, 2013).

¹⁵ Id.

¹⁶ See Order, 83 FR at 60397.

Final Results of the Review

For the companies subject to this review, which established their eligibility for a separate rate, Commerce determines that the following weighted-average dumping margins exist for the POR:

Exporter | Weighted- average dumping margin (percent)
Both-Well (Taizhou) Steel Fittings Co., Ltd | 0.00
Review-Specific Rate Applicable to the Following Companies
Ningbo Long Teng Metal Manufacturing Co., Ltd | 0.00
Ningbo Save Technology Co., Ltd | 0.00
Q.C. Witness International Co., Ltd | 0.00
Yingkou Guangming Pipeline Industry Co., Ltd | 0.00
Yuyao Wanlei Pipe Fitting Manufacturing Co., Ltd | 0.00
Xin Yi International Trade Co., Limited | 0.00

Assessment Rates

Pursuant to section 751(a)(2)(C) of the Tariff Act of 1930, as amended (the Act), and 19 CFR 351.212(b), Commerce has determined, and U.S Customs and Border Protection (CBP) shall assess, antidumping duties on all appropriate entries covered by this review. Commerce intends to issue assessment instructions to CBP no earlier than 35 days after the date of publication of the final results of this review in the Federal Register. If a timely summons is filed at the U.S. Court of International Trade, the assessment instructions will direct CBP not to liquidate relevant entries until the time for parties to file a request for a statutory injunction has expired (i.e., within 90 days of publication).

Because the weighted-average dumping margin for Both-Well and the respondents that were not selected for individual examination in this administrative review but qualified for a separate rate is zero, Commerce will instruct CBP to liquidate the appropriate entries without regard to antidumping duties.¹⁷ For the companies listed in Appendix II, identified as part of the China-wide entity, we will instruct CBP to apply an antidumping duty assessment rate of 142.72 percent (the rate applicable to the China-wide entity) to all entries of subject merchandise during the POR exported by those companies.

¹⁷ See Antidumping Proceedings: Calculation of the Weighted-Average Dumping Margin and Assessment Rate in Certain Antidumping Proceedings: Final Modification, 77 FR 8101, 8103 (February 14, 2012).

For entries that were not reported in the U.S. sales data submitted by Both-Well during this review, Commerce will instruct CBP to liquidate such entries at the rate for the China-wide entity.¹⁸ Additionally, if Commerce determines that an exporter under review had no shipments of the subject merchandise, any suspended entries that entered under that exporter's case number (i.e., at that exporter's cash deposit rate) will be liquidated at the rate for the China-wide entity (i.e., 142.72 percent).

¹⁸ See Assessment Practice Refinement, 76 FR at 65694-95, for a full discussion of this practice.

We intend to instruct CBP to take into account the “provisional measures deposit cap” in accordance with 19 CFR 351.212(d).

Cash Deposit Requirements

The following cash deposit requirements will be effective upon publication of the final results of this administrative review for shipments of the subject merchandise from China entered, or withdrawn from warehouse, for consumption on or after the publication date, as provided by section 751(a)(2)(C) of the Act: (1) For each company listed in the final results of this review, the cash deposit rate will be equal to the weighted-average dumping margin listed for the exporter in the table; (2) for a previously examined Chinese and non-Chinese exporter not listed above that received a separate rate in a prior completed segment of this proceeding, the cash deposit rate will continue to be the existing exporter-specific cash deposit rate; (3) for all Chinese exporters of subject merchandise that have not been found to be entitled to a separate rate, the cash deposit rate will be the rate for the China-wide entity (i.e., 142.72 percent); and (4) for all non-Chinese exporters of subject merchandise which have not received their own separate rate, the cash deposit rate will be the rate applicable to the Chinese exporter that supplied that non-Chinese exporter.

These cash deposit requirements, when imposed, shall remain in effect until further notice.

Disclosure

We intend to disclose the calculations performed to parties in this proceeding within five days of the date of publication of this notice in accordance with 19 CFR 351.224(b).

Notification to Importers Regarding the Reimbursement of Duties

This notice also serves as a final reminder to importers of their responsibility under 19 CFR 351.402(f)(2) to file a certificate regarding the reimbursement of antidumping duties prior to liquidation of the relevant entries during this POR. Failure to comply with this requirement could result in Commerce's presumption that reimbursement of antidumping duties has occurred and the subsequent assessment of double antidumping duties.

Notification Regarding Administrative Protective Order (APO)

This notice also serves as a reminder to parties subject to APO of their responsibility concerning the return or destruction of proprietary information disclosed under APO in accordance with 19 CFR 351.305(a)(3), which continues to govern business proprietary information in this segment of the proceeding. Timely written notification of the return or destruction of APO materials, or conversion to judicial protective order, is hereby requested. Failure to comply with the regulations and terms of an APO is a violation subject to sanction.

Notification to Interested Parties

This administrative review and notice are issued and published in accordance with sections 751(a)(1) and 777(i)(1) of the Act, and 19 CFR 351.213 and 19 CFR 351.221(b)(5).

Dated: September 21, 2021.
Christian Marsh,
Acting Assistant Secretary for Enforcement and Compliance.

Appendix I

Issues and Decision Memorandum

I. Summary

II. Background

III. Scope of the Order

IV. Changes Since the Preliminary Results

V. Discussion of the Issues

Comment 1: Surrogate Country Selection

Comment 2: Ministerial Errors

Comment 3: Financial Ratios

VI. Recommendation

Appendix II

Companies Not Eligible for Separate Rate and Treated as Part of China-Wide Entity

1. Cixi Baicheng Hardware Tools, Ltd.

2. Eaton Hydraulics (Luzhou) Co., Ltd.

3. Eaton Hydraulics (Ningbo) Co., Ltd.

4. Jiangsu Haida Pipe Fittings Group Co.

5. Jinan Mech Piping Technology Co., Ltd.

6. Jining Dingguan Precision Parts Manufacturing Co., Ltd.

7. Luzhou City Chengrun Mechanics Co., Ltd.

8. Ningbo HongTe Industrial Co., Ltd.

9. Ningbo Zhongan Forging Co., Ltd.

10. Shanghai Lon Au Stainless Steel Materials Co., Ltd.

11. Witness International Co., Ltd.

12. Yancheng Boyue Tube Co., Ltd.

13. Yancheng Haohui Pipe Fittings Co., Ltd.

14. Yancheng Jiuwei Pipe Fittings Co., Ltd.

15. Yancheng Manda Pipe Industry Co., Ltd.

[FR Doc. 2021-21045 Filed 9-27-21; 8:45 am]

BILLING CODE 3510-DS-P